OFFICE OF THE UNITED STATES TRADE REPRESENTATIVE

[Docket Number USTR-2019-0010]

Request for Comments and Notice of Public Hearing Concerning China's Compliance With WTO Commitments

AGENCY: Office of the United States Trade Representative.

ACTION: Notice of public hearing and request for comments.

SUMMARY: The interagency Trade Policy Staff Committee (TPSC) invites interested persons to submit written comments and participate in a public hearing to assist the Office of the United States Trade Representative (USTR) in the preparation of its annual report to the Congress on China's compliance with the commitments made in connection with its accession to the World Trade Organization (WTO).

DATES: September 18, 2019 at midnight EDT: Deadline for submission of comments, and requests to appear and summaries of testimony at the October 2, 2019 public hearing. October 2, 2019: The TPSC will convene a public hearing in Rooms 1 and 2, 1724 F Street NW, Washington DC 20508, beginning at 9:30 a.m.

ADDRESSES: USTR strongly prefers electronic submissions made through the Federal eRulemaking Portal: http://www.regulations.gov. The instructions for submitting notification of intent to testify and/or written comments are in sections 3 and 4 below. The docket number is USTR-2019-0010. For alternatives to on-line submissions, contact Yvonne Jamison at (202) 395-3475 before transmitting a comment and in advance of the relevant deadline.

FOR FURTHER INFORMATION CONTACT: Yvonne Jamison at (202) 395-3475 for procedural questions concerning written comments or participation in the public hearing. Direct all other questions to Terrence J. McCartin, Acting Assistant United States Trade Representative for China Affairs, at (202) 395-3900, or Philip D. Chen, Chief Counsel for China Enforcement, at (202) 395-3150.

SUPPLEMENTARY INFORMATION:

1. Background

China became a Member of the WTO on December 11, 2001. In accordance with section 421 of the U.S.-China Relations Act of 2000 (Pub L. 106-286), USTR is required to submit, by December 11 of each year, a report to Congress on China's compliance with commitments made in connection with its accession to the WTO, including both multilateral commitments and any bilateral commitments made to the United States. In accordance with section 421, and to assist it in preparing this year's report, the TPSC is soliciting public comments. You can find last year's report on USTR's website at https://ustr.gov/sites/default/files/2018-USTR-Report-to-Congress-on-China%27s-WTO-Compliance.pdf.

The terms of China's accession to the WTO are contained in the Protocol on the Accession of the People's Republic of China (including its annexes) (Protocol), the Report of the Working Party on the Accession of China (Working Party Report), and the WTO agreements. You can find the Protocol and Working Party Report on the WTO website at http://docsonline.wto.org (document symbols: WT/L/432, WT/MIN(01)/3, WT/MIN(01)/3/Add.1, WT/MIN(01)/3/Add.2).

2. Topics on Which the TPSC Seeks Information

The TPSC invites written comments and/or oral testimony of interested persons on China's compliance with commitments made in connection with its accession to the WTO, including, but not limited to, commitments in the following areas:

A. Trading rights.

B. Import regulation (e.g., tariffs, tariff-rate quotas, quotas, import licenses).

C. Export regulation.

D. Internal policies affecting trade (e.g., subsidies, standards and technical regulations, sanitary and phytosanitary measures, government procurement, trade-related investment measures, taxes and charges levied on imports and exports).

E. Intellectual property rights (including intellectual property rights enforcement).

F. Services.

G. Rule of law issues (e.g., transparency, judicial review, uniform administration of laws and regulations) and status of legal reform.

H. Other WTO commitments.

In addition, given the United States' view that China should be held accountable as a full participant in, and beneficiary of, the international trading system, USTR requests that interested persons specifically identify unresolved compliance issues that warrant review and evaluation by USTR's China Enforcement Task Force.

3. Notice of Public Hearing

The TPSC will hold a hearing on October 2, 2019, beginning at 9:30 a.m., to receive information regarding China's compliance with WTO commitments. The hearing will be held in Rooms 1 and 2, 1724 F Street NW, Washington, DC 20508, and will be open to the public and to the press. A transcript of the hearing will be available on www.regulations.gov within approximately two weeks after the date of the hearing. All interested parties wishing to make an oral presentation at the hearing must submit, following the Requirements for Submissions below, the name, address, telephone number, and email address, if available, of the witness(es) representing their organization no later than midnight on September 18, 2019. Requests to present oral testimony must be accompanied by a written summary of the proposed testimony, in English. The TPSC will limit oral testimony to five-minute presentations that summarize or supplement information contained in briefs or statements submitted for the record to allow for possible questions from the TPSC.

4. Requirements for Submissions

In order to be assured of consideration, we must receive your notification of intent to testify and/or written comments in English by 11:59 p.m. on September 18, 2019. USTR strongly encourages commenters to make on-line submissions, using www.regulations.gov. On the first page, please identify the submission as “China's WTO Compliance.”

To submit comments via www.regulations.gov, enter docket number USTR-2019-0010 on the home page and click “search.” The site will provide a search-results page listing all documents associated with this docket. Find a reference to this notice and click on the link entitled “comment now!”. For further information on using the www.regulations.gov website, please consult the resources provided on the website by clicking on “How to Use Regulations.gov” on the bottom of the home page. USTR will not accept hand-delivered submissions.

The www.regulations.gov website allows users to submit comments by filling in a “type comment” field or by attaching a document using an “upload file” field. USTR prefers that you submit comments in an attached document. If you attach a document, it is sufficient to type “see attached” in the “type comment” field. USTR prefers submissions in Microsoft Word (.doc) or Adobe Acrobat (.pdf). If you use an application other than those two, please indicate the name of the application in the “type comment” field.

Filers submitting comments containing no business confidential information should name their file using the name of the person or entity submitting the comments. For any comments submitted electronically containing business confidential information, the file name of the business confidential version should begin with the characters “BC”. Any page containing business confidential information must be clearly marked “BUSINESS CONFIDENTIAL” on the top of that page. Filers of submissions containing business confidential information also must submit a public version of their comments that we will place in the docket for public inspection. The file name of the public version should begin with the character “P”. The “BC” and “P” should be followed by the name of the person or entity submitting the comments.

Please do not attach separate cover letters to electronic submissions; rather, include any information that might appear in a cover letter in the comments themselves. Similarly, to the extent possible, please include any exhibits, annexes, or other attachments in the same file as the submission itself, not as separate files.

As noted, USTR strongly urges you to file submissions through www.regulations.gov. You must make any alternative arrangements with Yvonne Jamison at (202) 395-3475 before transmitting a comment and in advance of the relevant deadline.

USTR will post comments in the docket for public inspection, except business confidential information. You can view comments on the https://www.regulations.gov website by entering docket number USTR-2019-0010 in the search field on the home page. General information concerning USTR is available at www.ustr.gov.

Edward Gresser,
Chair of the Trade Policy Staff Committee, Office of the United States Trade Representative.

[FR Doc. 2019-17392 Filed 8-13-19; 8:45 am]

BILLING CODE 3290-F9-P